DEPARTMENT OF HEALTH AND HUMAN SERVICES

Substance Abuse and Mental Health Services Administration

Agency Information Collection Activities; Proposed Collection; Comment Request

In compliance with Section 3506(c)(2)(A) of the Paperwork Reduction Act of 1995 concerning opportunity for public comment on proposed collections of information, the Substance Abuse and Mental Health Services Administration (SAMHSA) will publish periodic summaries of proposed projects. To request more information on the proposed projects or to obtain a copy of the information collection plans, call the SAMHSA Reports Clearance Officer on (240) 276-1243.

Comments are invited on: (a) Whether the proposed collections of information are necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology.

Proposed Project: National Evaluation of the Comprehensive Community Mental Health Services for Children and Their Families Program: Phase VI (OMB No. 0930-0307)—REVISION

The Substance Abuse and Mental Health Services Administration (SAMHSA), Center of Mental Health Services is responsible for the national evaluation of the Comprehensive Community Mental Health Services for Children and Their Families Program (Children's Mental Health Initiative—CMHI) that will collect data on child mental health outcomes, family life, and service system development. Data will be collected on 47 service systems, and approximately 6,561 children and families.

Principal changes from the previous Phase VI OMB approval include:

• Addition of nine (9) communities awarded cooperative agreements in FY2010 for data collection.

• Replacement of intake and follow-up questionnaires for the Child Welfare Sector and Comparison Study with an administrative record review form to lessen burden.

• Addition of a brief 8-item Education Sector Caregiver Questionnaire to the Education Sector and Comparison Study to capture family involvement in the development and use of Individualized Education Plans (IEPs).

• Removal of data collection activities for the Alumni Networking Study, the CQI Initiative Evaluation, and the Sustainability Study.

Data collection for this evaluation will be conducted over a five-year period. Child and family outcomes of interest will be collected at intake and during subsequent follow-up sessions at six-month intervals. The length of time that individual families will participate in the study is up to 24 months. The outcome measures include the following: child symptomatology and functioning, family functioning, satisfaction, and caregiver strain. The core of service system data will be collected every 18-24 months throughout the 5-year evaluation period. Service utilization and cost data will be tracked and submitted to the national evaluation every six months using two tools: the Flex Fund Tool and the Services and Costs Data Tool to estimate average cost of treatment per child, distribution of costs, and allocation of costs across service categories. Service delivery and system variables of interest include the following: maturity of system of care development in funded system of care communities, adherence to the system of care program model, and client service experience.

In addition, the evaluation will include one special study: The Sector and Comparison Study will examine in more detail the outcomes and service experience of children from multiple child-serving sectors and, through child-level matching, compare these outcomes with those not receiving system of care services.

Internet-based technology such as data entry and management tools will be used in this evaluation. The measures of the national evaluation address annual Congressional reporting requirements of the program's authorizing legislation, and the national outcome measures for mental health programs as currently established by SAMHSA.

The average annual respondent burden is estimated below. The estimate reflects the average number of respondents in each respondent category, the average number of responses per respondent per year, the average length of time it will take to complete each response, and the total average annual burden for each category of respondent, and for all categories of respondents combined.

Instrument | Respondent | Number of respondents | Total average number of responses per respondent | Hours per response | Total burden hours | 5-Year average annual burden hours
System of Care Assessment
Interview Guides A-S | Key site informants | 1,081 | 3 | 1.00 | 3,243 | 649
Child and Family Outcome Study
Caregiver Information Questionnaire, Revised: Caregiver—Intake (CIQ-RC-I) | Caregiver | 6,561 | 1 | 0.37 | 2,406 | 481
Caregiver Information Questionnaire, Revised: Staff as Caregiver—Intake (CIQ-RS-I) | Staff as Caregiver.
Caregiver Information Questionnaire, Revised: Caregiver—Follow-Up (CIQ-RC-F) | Caregiver | 6,561 | 4 | 0.28 | 7,436 | 1,487
Caregiver Information Questionnaire, Revised: Staff as Caregiver—Follow-Up (CIQ-RS-F) | Staff as Caregiver.
Caregiver Strain Questionnaire (CGSQ) | Caregiver | 6,561 | 5 | 0.17 | 5,478 | 1,096
Child Behavior Checklist 1½-5 (CBCL 1½-5) | Caregiver | 6,561 | 5 | 0.33 | 10,924 | 2,185
Child Behavior Checklist 6-18 (CBCL 6-18)
Education Questionnaire, Revision 2 (EQ-R2) | Caregiver | 6,561 | 5 | 0.33 | 10,924 | 2,185
Living Situations Questionnaire (LSQ) | Caregiver | 6,561 | 5 | 0.08 | 2,723 | 545
Behavioral and Emotional Rating Scale—Second Edition, Parent Rating Scale (BERS-2C) | Caregiver | 5,389 | 5 | 0.17 | 4,500 | 900
Columbia Impairment Scale (CIS) | Caregiver | 6,281 | 5 | 0.08 | 2,607 | 521
Parenting Stress Index (PSI) | Caregiver | 2,151 | 5 | 0.08 | 896 | 179
Devereux Early Childhood Assessment for Infants (DECA 1-18M) | Caregiver | 1,576 | 5 | 0.08 | 657 | 131
Devereux Early Childhood Assessment for Toddlers (DECA 18-36M)
Devereux Early Childhood Assessment (DECA 2-5Y)
Preschool Behavioral and Emotional Rating (PreBERS) | Caregiver | 1,576 | 5 | 0.10 | 788 | 158
Delinquency Survey, Revised (DS-R) | Youth | 3,986 | 5 | 0.13 | 2,657 | 531
Behavioral and Emotional Rating Scale—Second Edition, Youth Rating Scale (BERS-2Y) | Youth | 3,986 | 5 | 0.17 | 3,328 | 666
Gain Quick-R: Substance Problem Scale (GAIN) | Youth | 3,986 | 5 | 0.08 | 1,654 | 331
Substance Use Survey, Revised (SUS-R) | Youth | 3,986 | 5 | 0.10 | 1,993 | 399
Revised Children's Manifest Anxiety Scale, Second Edition (RCMAS-2) | Youth | 3,986 | 5 | 0.07 | 1,329 | 266
Reynolds Adolescent Depression Scale, Second Edition (RADS-2) | Youth | 3,986 | 5 | 0.05 | 997 | 199
Youth Information Questionnaire, Revised—Intake (YIQ-R-I) | Youth | 3,986 | 1 | 0.25 | 997 | 199
Youth Information Questionnaire, Revised—Follow-Up (YIQ-R-F) | Youth | 3,986 | 4 | 0.25 | 3,986 | 797
Service Experience Study
Multi-Sector Service Contacts, Revised: Caregiver—Intake (MSSC-RC-I) | Caregiver | 6,561 | 1 | 0.25 | 1,640 | 328
Multi-Sector Service Contacts, Revised: Staff as Caregiver—Intake (MSSC-RS-I) | Staff as Caregiver.
Multi-Sector Service Contacts, Revised: Caregiver—Follow-Up (MSSC-RC-F) | Caregiver | 6,561 | 4 | 0.25 | 6,561 | 1,312
Multi-Sector Service Contacts, Revised: Staff as Caregiver—Follow-Up (MSSC-RS-F) | Staff as Caregiver.
Cultural Competence and Service Provision Questionnaire, Revised (CCSP-R) | Caregiver | 6,561 | 4 | 0.13 | 3,499 | 700
Youth Services Survey for Families (YSS-F) | Caregiver | 6,561 | 4 | 0.12 | 3,071 | 614
Youth Services Survey (YSS) | Youth | 3,986 | 4 | 0.08 | 1,323 | 265
Comparison and Sector Study: Juvenile Justice
Court Representative Questionnaire (CRQ) | Court representatives | 202 | 5 | 0.50 | 505 | 101
Electronic Data Transfer of Juvenile Justice Records | Key site personnel | 202 | 5 | 0.03 | 34 | 7
Comparison and Sector Study: Education
Teacher Questionnaire (TQ) | Teacher | 202 | 5 | 0.50 | 505 | 101
School Administrator Questionnaire (SAQ) | School administrators | 202 | 5 | 0.50 | 505 | 101
Electronic Data Transfer of Education Records | Key site personnel | 202 | 5 | 0.03 | 34 | 7
Education Sector Caregiver Questionnaire (ESCQ) | Caregiver | 202 | 5 | 0.08 | 81 | 16
Comparison and Sector Study: Child Welfare
Electronic Data Transfer of Child Welfare Records | Key site personnel | 202 | 5 | 0.03 | 34 | 7
Services and Costs Study
Flex Funds Data Dictionary/Tool | Local programming staff compiling/entering administrative data on children/youth | 1,565 | 3 | 0.03 | 155 | 31
Services and Costs Data Dictionary/Data Entry Application | Local evaluator, staff at partner agencies, and programming staff compiling/entering service and cost records on children/youth | 6,561 | 100 | 0.05 | 32,805 | 6,561

Respondent | Number of respondents | Number of responses/ respondent | Average burden/ response | Total average annual burden
Caregiver | 6,561 | 0.9 | 2.2 | 12,838
Youth | 3,986 | 0.9 | 1.1 | 3,653
Provider/Administrator | 1,081 | 12.9 | 0.5 | 7,564
Total | 11,628 |  |  | 24,055

Send comments to Summer King, SAMHSA Reports Clearance Officer, Room 8-1099, One Choke Cherry Road, Rockville, MD 20857 or email her a copy at summer.king@samhsa.hhs.gov. Written comments should be received within 60 days of this notice.

Summer King,
Statistician.

[FR Doc. 2012-8803 Filed 4-11-12; 8:45 am]

BILLING CODE 4162-20-P